DEPARTMENT OF THE INTERIOR

Bureau of Indian Affairs

Submission of Information Collection to the Office of Management and Budget

AGENCY: Bureau of Indian Affairs, Interior.

ACTION: Notice.

SUMMARY: The Bureau of Indian Affairs (BIA) is submitting to OMB the information collection, titled Navajo Partitioned Lands Grazing Regulations Permits, OMB Control Number 1076-0162 for renewal; or, for review and approval. The purpose of this data collection is to collect information for 25 CFR Part 161 Navajo Partitioned Lands Grazing Regulations as required by the Paperwork Reduction Act.

DATES: Submit comments on or before February 28, 2007.

ADDRESSES: You may submit comments on the information collection to the Desk Officer for Department of the Interior, by facsimile at (202) 395-6566 or you may send an e-mail to: OIRA_DOCKET@omb.eop.gov.

Please send a copy of your comments to James R. Orwin, Bureau of Indian Affairs, Office of Trust Services, Division of Natural Resources, Mail Stop 4655-MIB, 1849 C Street, NW., Washington, DC 20240, or by Fax to (202) 219-0006.

FOR FURTHER INFORMATION CONTACT: You may request further information or obtain copies of the information collection request submission from James R. Orwin, (202) 208-6464 at the Bureau of Indian Affairs Central Office in Washington, DC.

SUPPLEMENTARY INFORMATION: This collection of information is authorized under Public Law 103-177, the “American Indian Agricultural Resource Management Act,” as amended. Tribes, tribal organizations, individual Indians, and those entering into permits with tribes or individual Indians submit information required by the regulation. The information is used by the Bureau of Indian Affairs to determine:

(a) Whether or not a permit for grazing may be approved or granted;

(b) The value of each permit;

(c) The appropriate compensation to landowners; and

(d) Provisions for violations of permit and trespass.

A request for comments on this information collection request appeared in the Federal Registeron October 30, 2006 (71 FR 63345). No comments were received.

Request for Comments

The Bureau of Indian Affairs requests you to send your comments on this collection to the locations listed in the ADDRESSES section. Your comments should address:

(a) The necessity of this information collection for the proper performance of the functions of the agency, including whether the information will have practical utility;

(b) The accuracy of the agency's estimate of the burden (hours and cost) of the collection of information, including the validity of the methodology and assumptions used;

(c) Ways we could enhance the quality, utility and clarity of the information to be collected; and

(d) Ways we could minimize the burden of the collection of the information on the respondents, such as through the use of automated collection techniques or other forms of information technology.

Please note that an agency may not sponsor or request, and an individual need not respond to, a collection of information unless it has a valid OMB Control Number.

OMB has up to 60 days to make a decision on the submission for renewal, but may make the decision after 30 days. Therefore, to receive the best consideration of your comments, you should submit them closer to 30 days than 60 days.

OMB Approval Number: 1076-0162.

Title: Navajo Partitioned Lands Grazing Regulations Permits, 25 CFR Part 161.

Brief description of collection: Information is collected for the Navajo Partitioned Lands Grazing program from respondents who supply all necessary information needed to approve use of the lands, such as a grazing permit which includes: name, address, range unit requested, number of livestock, season of use, livestock owner's brand, kind of livestock, mortgage holder information, ownership of livestock, and requested term of use.

Type of review: Renewal.

Respondents: Possible respondents include: individual tribal members, individual non-Indians, individual tribal member-owned business, non-Indian owned businesses, tribal governments and land owners. Response is mandatory for respondents who wish to obtain a grazing permit.

Number of Respondents: 700.

Estimated Time per Response: 23 minutes.

Frequency of Response: Annually and as needed.

Total Annual Responses: 3,200.

Total Annual Hourly Burden to Respondents: 1,227 hours.

Dated: January 23, 2007.
Michael D. Olsen,
Principal Deputy Assistant Secretary—Indian Affairs.

[FR Doc. E7-1294 Filed 1-26-07; 8:45 am]

BILLING CODE 4310-W7-P